DEPARTMENT OF HOMELAND SECURITY

Federal Emergency Management Agency

[Docket ID FEMA-2021-0022; OMB No. 1660-0062]

Agency Information Collection Activities: Proposed Collection; Comment Request; State/Local/Tribal Hazard Mitigation Plans

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 28, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Kathleen Smith, Planning & Safety Branch Chief, Planning, Safety, and Building Science Division, Risk Management Directorate, Federal Insurance and Mitigation Administration, FEMA; Kathleen.Smith2@fema.dhs.gov and (202) 646-4372.

SUPPLEMENTARY INFORMATION: This proposed information collection previously published in the Federal Register on September 14, 2021, at 86 FR 51174 with a 60-day public comment period. One public comment was received. FEMA acknowledges and appreciates the comment made; however, the comment was not germane to the program, meaning no further action was taken. The purpose of this notice is to notify the public that FEMA will submit the information collection abstracted below to the Office of Management and Budget for review and clearance.

Section 322 of the Robert T. Stafford Disaster Relief and Emergency Assistance Act (Stafford Act), 42 U.S.C. 5165, as amended by the Disaster Mitigation Act of 2000 (DMA 2000), Public Law 106-390, provides the framework for linking pre-and post-disaster mitigation planning and initiatives with public and private interests to ensure an integrated, comprehensive approach to disaster loss reduction. Title 44 CFR part 201 provides the mitigation planning requirements for State, local, Tribal, or Territorial governments to identify the natural hazards that impact them, to identify actions and activities to reduce any losses from hazards, and to establish a coordinated process to implement the plan, taking advantage of a wide range of resources.

Collection of Information

Title: State/Local/Tribal Hazard Mitigation Plans.

Type of Information Collection: Revision of a currently approved information collection.

OMB Number: 1660-0062.

FEMA Forms: FEMA Form not applicable.

Abstract: In order to be eligible for certain types of Federal emergency management non-emergency assistance, state, local, Tribal or Territorial governments are required to have a current FEMA-approved hazard mitigation plan that meets the criteria established in 44 CFR part 201.

Affected Public: State, local, Tribal or Territorial government.

Estimated Number of Respondents: 224.

Estimated Number of Responses: 1,131.

Estimated Total Annual Burden Hours: 175,928.

Estimated Total Annual Respondent Cost: $10,291,788.

Estimated Respondents' Operation and Maintenance Costs: $30,760,976.

Estimated Respondents' Capital and Start-Up Costs: $10,497,648.

Estimated Total Annual Cost to the Federal Government: $1,936,738.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director, Information Management Division, Office of the Chief Administrative Officer, Mission Support, Federal Emergency Management Agency, Department of Homeland Security.

[FR Doc. 2022-04055 Filed 2-24-22; 8:45 am]

BILLING CODE 9110-12-P